FEDERAL TRADE COMMISSION

Agency Information Collection Activities; Proposed Collection; Comment Request; Extension

AGENCY: Federal Trade Commission.

ACTION: Notice.

SUMMARY: In accordance with the Paperwork Reduction Act of 1995 (“PRA”), the Federal Trade Commission (“FTC” or “Commission”) is seeking public comment on its proposal to extend for an additional three years the Office of Management and Budget clearance for information collection requirements pertaining to the Commission's

administrative activities, consisting of: (a) Responding to applications to the Commission pursuant to the Commission's Rules of Practice (Parts 1 and 4); (b) the FTC's consumer reporting systems; and (c) the FTC's program evaluation activities. The current clearance expires on May 31, 2021.

DATES: Comments must be filed by March 12, 2021.

ADDRESSES: Interested parties may file a comment online or on paper, by following the instructions in the Request for Comment part of the SUPPLEMENTARY INFORMATION section below. Write “Paperwork Reduction Act: FTC File No. P072108,” on your comment and file your comment online at https://www.regulations.gov, by following the instructions on the web-based form. If you prefer to file your comment on paper, mail your comment to the following address: Federal Trade Commission, Office of the Secretary, 600 Pennsylvania Avenue NW, Suite CC-5610 (Annex J), Washington, DC 20580, or deliver your comment to the following address: Federal Trade Commission, Office of the Secretary, Constitution Center, 400 7th Street SW, 5th Floor, Suite 5610 (Annex J), Washington, DC 20024.

FOR FURTHER INFORMATION CONTACT: Kenny Wright, Attorney, Office of the General Counsel, (202) 326-2907, 600 Pennsylvania Ave. NW, Washington, DC 20580.

SUPPLEMENTARY INFORMATION: Title of Collection: FTC Administrative Activities.

OMB Control Number: 3084-0169.

Type of Review: Extension of a currently approved collection.

Affected Public: Private Sector: Businesses and other for-profit entities.

Estimated Annual Burden Hours: 452,318 hours.

Estimated Annual Labor Costs: $26,890.

Discussion

Pursuant to its Rules of Practice, the Commission collects information to carry out its administrative responsibilities. Any person, partnership, or corporation may request advice from the Commission or FTC staff regarding a course of action the requester contemplates. The Commission's rules require requesters to provide the information necessary to facilitate resolution of the requests, including information on the question to be resolved, the identity of the companies or persons involved, and other material facts. See FTC Rule 1.2, 16 CFR 1.2. The FTC's ethics regulations require former employees who are seeking ethical clearance to participate in FTC matters to submit screening affidavits to facilitate resolution of their requests. See FTC Rule 4.1(b), 16 CFR 4.1(b). Requests to participate must include, among other things, a description of the proceeding in which participation is contemplated; the name of the Commission office or division in which the former employee was employed and the position the employee occupied; and a statement whether, while employed by the Commission, the former employee participated in any proceeding or investigation concerning the same company, individual, or industry currently involved in the matter in question. These requirements prevent the improper use of confidential nonpublic information acquired while working at the FTC. The Commission's Rules of Practice also authorize outside parties to request employee testimony, through compulsory process or otherwise, and to request documentary material through compulsory process in cases or matters to which the agency is not a party. See FTC Rule 4.11(e), 16 CFR 4.11(e). These rules require persons seeking testimony or material from the Commission to submit a statement in support of the request setting forth the party's interest in the case or matter, the relevance of the desired testimony or material, and a discussion of whether it is reasonably available from other sources.

The Commission receives approximately 55 such requests annually. Staff estimates respondents will incur, on average, approximately 2 hours of burden to submit a request, resulting in a cumulative 110 burden hours per year (55 requests × 2 burden hours). Based on an estimated average wage of $145/hour for executive and attorney wages, staff estimates a total annual cost burden of $15,950 (110 hours × $145). Staff estimates that requesters would incur no capital, start-up, operation, maintenance, or other similar costs associated with submitting covered requests.

The FTC also allows consumers to report fraud, identity theft, National Do Not Call Registry violations, and other violations of law through telephone hotlines and three online consumer report forms. Consumers may call a hotline phone number or log on to the FTC's website to report violations using the applicable reporting forms. The provision of this information is voluntary. The FTC also conducts customer satisfaction surveys regarding the support that the Commission's Consumer Response Center provides to consumers to obtain information about the overall effectiveness of the call center and online complaint intake forms. This information assists Bureau of Consumer Protection staff in carrying out the agency's consumer protection mission. The FTC is also mandated by Congress under the Identity Theft and Assumption Deterrence Act of 1998, 18 U.S.C. 1001 et seq., to serve as the central clearinghouse for identity theft complaints.

The time necessary to file a consumer report or participate in related customer satisfaction surveys will vary. FTC staff estimates that approximately 7,750,841 respondents will submit information pursuant to these processes and that the associated burden will be 452,131 hours per year over the course of the three-year clearance. The cost per respondent to file a complaint is negligible. Participation is voluntary and will not require any labor expenditures by respondents. In addition, there are no capital, start-up, operation, maintenance, or other similar costs for respondents.

The FTC also conducts evaluations of its competition advocacy program and the effectiveness of its merger divestiture orders. The FTC's Competition Advocacy Program draws on the Commission's expertise in competition and consumer protection matters to encourage federal and state legislatures, courts, and other state and federal agencies to consider the effects of proposed actions on consumers and competition. Statutory authority for the advocacy program is found in part in sections 6(a) and (f) of the FTC Act. 15 U.S.C. 46(a) and (f). The FTC's Office of Policy and Planning evaluates the effectiveness of these advocacy comments by sending questionnaires to selected comment recipients. FTC staff sends questionnaires to approximately 20 respondents per year. FTC staff estimates that, on average, respondents will need 15 minutes or less to complete a questionnaire, yielding a cumulative burden of 5 burden hours (20 respondents per year × 15 minutes per respondent). FTC staff estimates an hourly labor cost of $100 for the time spent by survey participants (primarily, staff at state and federal agencies or members of federal and state legislatures and their staff). Thus, staff estimates a total labor cost of $25 for each response (15 minutes × $100 per hour). This yields a cumulative yearly labor costs will be approximately $500 (20 respondents × $25 per response). FTC staff estimates that respondents would incur no capital, start-up, operation, maintenance, or other similar costs for respondent to these questionnaires.

Following an order of divestiture in a merger matter, the FTC's Bureau of Competition's Compliance Division conducts brief calls with acquirers of divested assets to assess the effectiveness of these divestitures. The Commission issues, on average, 15-17 orders in merger cases per year that require divestitures or other remedies. For interviews with purchasers of divested assets, each interview typically takes less than one hour to complete. FTC staff estimates that it takes each participant no more than one hour to prepare for the interview. Accordingly, staff estimates that, for each interview, two individuals (typically a company executive and an attorney) will devote two hours each (one hour preparing and one hour participating) to responding to questions for a total of four hours. Assuming that staff evaluates approximately 17 divestitures per year during the three-year clearance period, staff estimates that the total hours burden will be 68 hours per year (17 divestiture reviews × 4 hours for preparing and participating). Staff may include approximately two monitor interviews a year, which would add at most 4 hours (2 interviews × 2 hours for preparing and participating). Interviews of monitors typically involve only the monitor and take approximately one hour to complete with no more than one hour to prepare for the interview. This yields a total burden of 72 burden hours per year. Staff estimates that the total annual labor cost, based on an estimated average of $145/hour for executive and attorney wages, would be $10,440 (72 hours × $145). There are no capital, start-up, operation, maintenance, or other similar costs to respondents.

Request for Comment

Pursuant to Section 3506(c)(2)(A) of the PRA, the FTC invites comments on: (1) Whether the disclosure requirements are necessary, including whether the information will be practically useful; (2) the accuracy of our burden estimates, including whether the methodology and assumptions used are valid; (3) ways to enhance the quality, utility, and clarity of the information to be collected; and (4) ways to minimize the burden of providing the required information to consumers. All comments should be filed as prescribed in the ADDRESSES section above, and must be received on or before March 12, 2021.

You can file a comment online or on paper. For the Commission to consider your comment, we must receive it on or before March 12, 2021. Write “Paperwork Reduction Act: FTC File No. P072108” on your comment. Postal mail addressed to the Commission is subject to delay due to heightened security screening. As a result, we encourage you to submit your comments online. To make sure that the Commission considers your online comment, you must file it through the https://www.regulations.gov website by following the instructions on the web-based form provided. Your comment, including your name and your state—will be placed on the public record of this proceeding, including the https://www.regulations.gov website.

If you file your comment on paper, write “Paperwork Reduction Act: FTC File No. P072108” on your comment and on the envelope, and mail your comment to the following address: Federal Trade Commission, Office of the Secretary, 600 Pennsylvania Avenue NW, Suite CC-5610 (Annex J), Washington, DC 20580, or deliver your comment to the following address: Federal Trade Commission, Office of the Secretary, Constitution Center, 400 7th Street SW, 5th Floor, Suite 5610, Washington, DC 20024. If possible, please submit your paper comment to the Commission by courier or overnight service.

Because your comment will be placed on the public record, you are solely responsible for making sure that your comment does not include any sensitive or confidential information. In particular, your comment should not include any sensitive personal information, such as your or anyone else's Social Security number; date of birth; driver's license number or other state identification number, or foreign country equivalent; passport number; financial account number; or credit or debit card number. You are also solely responsible for making sure that your comment does not include any sensitive health information, such as medical records or other individually identifiable health information. In addition, your comment should not include any “trade secret or any commercial or financial information which . . . is privileged or confidential”—as provided by Section 6(f) of the FTC Act, 15 U.S.C. 46(f), and FTC Rule 4.10(a)(2), 16 CFR 4.10(a)(2)—including in particular competitively sensitive information such as costs, sales statistics, inventories, formulas, patterns, devices, manufacturing processes, or customer names.

Comments containing material for which confidential treatment is requested must be filed in paper form, must be clearly labeled “Confidential,” and must comply with FTC Rule 4.9(c). In particular, the written request for confidential treatment that accompanies the comment must include the factual and legal basis for the request, and must identify the specific portions of the comment to be withheld from the public record. See FTC Rule 4.9(c). Your comment will be kept confidential only if the General Counsel grants your request in accordance with the law and the public interest. Once your comment has been posted on the public website—as legally required by FTC Rule 4.9(b)—we cannot redact or remove your comment from the website, unless you submit a confidentiality request that meets the requirements for such treatment under FTC Rule 4.9(c), and the General Counsel grants that request.

The FTC Act and other laws that the Commission administers permit the collection of public comments to consider and use in this proceeding as appropriate. The Commission will consider all timely and responsive public comments that it receives on or before March 12, 2021. For information on the Commission's privacy policy, including routine uses permitted by the Privacy Act, see https://www.ftc.gov/site-information/privacy-policy.

Josephine Liu,
Assistant General Counsel for Legal Counsel.

[FR Doc. 2021-00214 Filed 1-8-21; 8:45 am]

BILLING CODE 6750-01-P